DEPARTMENT OF THE INTERIOR

National Park Service

[NPS-WASO-NAGPRA-NPS0030868; PPWOCRADN0-PCU00RP14.R50000]

Notice of Inventory Completion for Native American Human Remains and Associated Funerary Objects in the Control of the U.S. Department of the Interior, Bureau of Land Management, New Mexico State Office, Santa Fe, NM; Correction

AGENCY: National Park Service, Interior.

ACTION: Notice; correction.

SUMMARY: The U.S. Department of the Interior, Bureau of Land Management, New Mexico State Office has corrected two Notices of Inventory Completion—a notice published in the Federal Register on March 20, 2001, and a notice correction published in the Federal Register on May 13, 2013. This notice corrects the minimum number of individuals and the number of associated funerary objects. Lineal descendants or representatives of any Indian Tribe or Native Hawaiian organization not identified in this notice that wish to request transfer of control of these human remains and associated funerary objects should submit a written request to the Bureau of Land Management, New Mexico State Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bureau of Land Management, New Mexico State Office at the address in this notice by November 2, 2020.

ADDRESSES: Cynthia Herhahn, Deputy Preservation Officer and NAGPRA Coordinator, Bureau of Land Management, New Mexico State Office, 301 Dinosaur Trail, Santa Fe, NM 87508.

FOR FURTHER INFORMATION CONTACT: Cynthia Herhahn, Deputy Preservation Officer and NAGPRA Coordinator, telephone (505) 761-8938, email cherhahn@blm.gov.

SUPPLEMENTARY INFORMATION: Notice is here given in accordance with the Native American Graves Protection and Repatriation Act (NAGPRA), 25 U.S.C. 3003, of the correction of an inventory of human remains and associated funerary objects under the control of the U.S. Department of the Interior, Bureau of Land Management, New Mexico State Office, Santa Fe, NM. The human remains and associated funerary objects were removed from Rio Arriba County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (66 FR 15743-15744, March 20, 2001) and a Notice of Inventory Completion Correction (78 FR 27993-27994, May 13, 2013). A re-inventory and reassessment of collections resulted in a revision to the minimum number of individuals. The minimum number of individuals increased because two human remains were identified in a faunal collection, and some infant and juvenile human remains were comingled with each other, as well as with adult human remains. The re-inventory also resulted in the discovery of additional associated funerary objects from site LA 297. Transfer of control of the items in this correction notice has not occurred.

Correction

In the Federal Register of March 20, 2001, in FR Doc. 01-6840, on page 15743, make the following correction:

1. On page 15743, column 2, fourth full paragraph, sentences 1 and 2 are corrected to read as follows:

In 1978, human remains representing four individuals were recovered from site LA 297 in New Mexico during legally authorized excavations and collections conducted by Mike O'Neill of the Bureau of Land Management. The remains of three individuals are presently curated at the Maxwell Museum of Anthropology, University of New Mexico, and the remains of one individual are presently curated at the Museum of New Mexico, Santa Fe, NM.

In the Federal Register of May 13, 2013, in FR Doc. 2013-11229, on page 27993, make the following corrections:

2. On page 27944, column 1, the correction to paragraph 7, sentence 1, is corrected to read as follows:

Between 1979 and 1981, human remains representing 17 individuals were recovered from site LA 297 in New Mexico during legally authorized excavations and collections by Occidental College.

3. On page 27944, column 1, the correction to paragraph 7, sentence 4, is corrected to read as follows:

The 172 associated funerary objects include one whole ceramic vessel; one lot of burial matting; three lots of corn cobs; one turquoise fragment; one lot of chipped stone; 67 pieces of lithic debitage; 88 ceramic sherds; two pebbles; two lithic cores; one soil sample; four faunal remains; and one obsidian drill.

4. On page 27944, column 1, the correction to paragraph 10, sentences 1 and 2, is corrected to read as follows:

Based on the above information, officials of the Bureau of Land Management, New Mexico State Office have determined that, pursuant to 43 CFR 10.2 (d)(1), the human remains listed above represent the physical remains of 22 individuals of Native American ancestry. Officials of the Bureau of Land Management have determined that, pursuant to 43 CFR 10.2 (d)(2), the 172 objects listed above are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Cynthia Herhahn, Deputy Preservation Officer and NAGPRA Coordinator, Bureau of Land Management, New Mexico State Office, 301 Dinosaur Trail, Santa Fe, NM 87508, telephone (505) 761-8938, email cherhahn@blm.gov, by November 2, 2020. After that date, if no additional requestors have come forward, transfer of control of the human remains and associated funerary objects to the Ohkay Owingeh, New Mexico (previously listed as Pueblo of San Juan); Pueblo of Nambe, New Mexico; Pueblo of Pojoaque, New Mexico; Pueblo of San Ildefonso, New Mexico; Pueblo of Santa Clara, New Mexico; and the Pueblo of Tesuque, New Mexico, may proceed.

The U.S. Department of the Interior, Bureau of Land Management, New Mexico State Office is responsible for notifying the Hopi Tribe of Arizona; Navajo Nation, Arizona, New Mexico & Utah; Ohkay Owingeh, New Mexico (previously listed as Pueblo of San Juan); Pueblo of Acoma, New Mexico; Pueblo of Jemez, New Mexico; Pueblo of Isleta, New Mexico; Pueblo of Nambe, New Mexico; Pueblo of Pojoaque, New Mexico; Pueblo of San Ildefonso, New Mexico; Pueblo of Santa Clara, New Mexico; Pueblo of Tesuque, New Mexico; Pueblo of Zia, New Mexico; and the Zuni Tribe of the Zuni Reservation, New Mexico, that this notice has been published.

Dated: September 9, 2020.
Melanie O'Brien,
Manager, National NAGPRA Program.

[FR Doc. 2020-21078 Filed 10-1-20; 8:45 am]

BILLING CODE 4312-52-P